DEPARTMENT OF HEALTH AND HUMAN SERVICES

Food and Drug Administration

[Docket No. FDA-2024-N-0008]

The Tobacco Products Scientific Advisory Committee; Notice of Meeting; Amendment of Notice

AGENCY: Food and Drug Administration, HHS.

ACTION: Notice.

SUMMARY: The Food and Drug Administration (FDA or Agency) is announcing an amendment of the notice of meeting of the Tobacco Products Scientific Advisory Committee (TPSAC). This meeting was announced in the Federal Register of May 6, 2024. The amendment is being made to reflect a change in the ADDRESSES portion of the document and to reflect a change in the Procedure portion. There are no other changes.

FOR FURTHER INFORMATION CONTACT: Serina Hunter-Thomas, Office of Science, Center for Tobacco Products, Food and Drug Administration, Document Control Center, Bldg. 71, Rm. G335, 10903 New Hampshire Ave., Silver Spring, MD 20993-0002, 1-877-287-1373, email: TPSAC@fda.hhs.gov, or FDA Advisory Committee Information Line, 1-800-741-8138 (301-443-0572 in the Washington, DC area). Please call the Information Line for up-to-date information on this meeting.

SUPPLEMENTARY INFORMATION: In the Federal Register of May 6, 2024 (89 FR 37231), FDA announced that a meeting of the Tobacco Products Scientific Advisory Committee would be held on June 26, 2024, from 9 a.m. to 4:30 p.m. EST. On page 37232, in the first column, the last paragraph of the ADDRESSES portion of the document is changed to read as follows:

For those unable to attend in person, the meeting will also be webcast and will be available at the following link: https://fda.zoomgov.com/j/1604157441?pwd=YkVzZ28vNHQrVXh3ZlhrTmlHaFVzZz09; Passcode: H*a5nF.

In addition, on page 37232 in the middle column under Procedure, the oral presentations or open public hearing time is now scheduled to start at 11:30 a.m. and end at 12:30 p.m. EST on June 26, 2024.

This notice is issued under the Federal Advisory Committee Act (5 U.S.C. 1001 et seq.) and 21 CFR part 14, relating to the advisory committees.

Dated: June 6, 2024.
Lauren K. Roth,
Associate Commissioner for Policy.

[FR Doc. 2024-12784 Filed 6-11-24; 8:45 am]

BILLING CODE 4164-01-P